DEPARTMENT OF HOMELAND SECURITY

Federal Emergency Management Agency

Agency Information Collection Activities: Submission for OMB Review; Comment Request

AGENCY: Federal Emergency Management Agency, DHS.

ACTION: Notice and request for comments.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

Title: The National Flood Insurance Program Biennial Report.

OMB Number: 1660-0003.

Abstract: The National Flood Insurance Program (NFIP) Biennial Report enables FEMA to meet its regulatory requirement under 44 CFR 59.22(b)(2). It also enables FEMA to be more responsive to the ongoing changes that occur in each participating community's flood hazard area. These changes include, but are not limited to, new corporate boundaries, changes in flood hazard areas, new floodplain management measures, and changes in rate of floodplain development. It is also used to evaluate the effectiveness of the community's floodplain management activities. The evaluation is accomplished by analyzing information provided by the community, such as the number of variances and floodplain permits granted by each community in relationship to other information contained in the Biennial Report as well as other data available in FEMA's Community Information System (CIS). The Biennial Report also provides an opportunity for NFIP participating communities to request technical assistance in implementing a floodplain management program. FEMA regional offices use this information as a means to know which communities need support and guidance.

The NFIP Biennial Report is also one of the tools used to assist FEMA in meeting its requirement under section 575 of the National Flood Insurance Reform Act. A “yes” answer to Item A-D in Section I of the report will provide the basis for FEMA to follow-up by contacting the community for clarification and/or elaboration regarding changes and activities occurring in a community's flood hazard area. This information will be used in ranking and prioritizing one community's mapping needs against all other communities in the NFIP and for determining how the limited flood hazard mapping funds are allocated for map updates.

Affected Public: State, local or tribal governments, farms, individuals or households, business or other for-profit, not-for-profit institutions representing the estimated 20,500 United States and United States territorial communities that are participating members of the NFIP. The NFIP requires that communities participating in the NFIP submit an annual or biennial report describing the progress made during the year in the implementation and enforcement of floodplain management regulations.

Number of Respondents: 20,500.

Estimated Time per Respondent: Up to three hours or less per claim.

Estimated Total Annual Burden Hours: 24,501.

Frequency of Response: Once every two years.

Comments: Interested persons are invited to submit written comments on the proposed information collection to the Office of Information and Regulatory Affairs, Office of Management Budget, Attention: Nathan Lesser, Desk Officer, Department of Homeland Security/FEMA, and sent via electronic mail to oira_submission@omb.eop.gov or faxed to (202) 395-6974. Comments must be submitted on or before July 20, 2007.

FOR FURTHER INFORMATION CONTACT: Requests for additional information or copies of the information collection should be made to Chief, Records Management, FEMA, 500 C Street, SW., Room 609, Washington, DC 20472, facsimile number (202) 646-3347, or e-mail address FEMA-Information-Collections@dhs.gov.

Dated: June 11, 2007.
John A. Sharetts-Sullivan,
Chief, Records Management and Privacy, Office of Management Directorate, Information Resources Management Branch, Information Technology Services Division, Federal Emergency Management Agency, Department of Homeland Security.

[FR Doc. 07-3007 Filed 6-19-07; 8:45 am]

BILLING CODE 9110-12-P